FEDERAL COMMUNICATIONS COMMISSION

Notice of Public Information Collection(s) Being Reviewed by the Federal Communications Commission for Extension Under Delegated Authority, Comments Requested

June 25, 2008.

SUMMARY: As part of its continuing effort to reduce paperwork burden and as required by the Paperwork Reduction Act (PRA) of 1995 (44 U.S.C. 3501-3520), the Federal Communications Commission invites the general public and other Federal agencies to comment on the following information collection(s). Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology. An agency may not conduct or sponsor a collection of information unless it displays a currently valid OMB control number. No person shall be subject to any penalty for failing to comply with a collection of information subject to the Paperwork Reduction Act that does not display a valid OMB control number.

DATES: Written PRA comments should be submitted on or before September 2, 2008. If you anticipate that you will be submitting comments, but find it difficult to do so within the period of time allowed by this notice, you should advise the contact listed below as soon as possible.

ADDRESSES: Submit your comments by e-mail to PRA@fcc.gov. Include in the email the OMB control number of the collection. If you are unable to submit your comments by e-mail contact the person listed below to make alternate arrangements.

FOR FURTHER INFORMATION CONTACT: For additional information about the information collection(s) or to obtain a copy of the collection send an e-mail to PRA@fcc.gov and include the collection's OMB control number as shown in the SUPPLEMENTARY INFORMATION section below, or call Leslie F. Smith at (202) 418-0217.

SUPPLEMENTARY INFORMATION: OMB Control Number: 3060-0793.

Title: Federal-State Joint Board on Universal Service, CC Docket No. 96-45, Procedures for Self Certifying as a Rural Carrier.

Form Number: N/A.

Type of Review: Extension of a currently approved collection.

Respondents: Business or other for profit; and not-for-profit institutions.

Number of Respondents and Responses: 1 respondent; 1 response.

Estimated Time per Response: 1 hour.

Frequency of Response: On occasion reporting requirement.

Obligation to Respond: Required to obtain or retain benefits.

Total Annual Burden: 0.5 hours.

Annual Cost Burden: N/A.

Privacy Act Impact Assessment: N/A.

Nature of Extent of Confidentiality: The Commission is not requesting that the respondents submit confidential information to the FCC. Respondents may, however, request confidential treatment for information they believe to be confidential under 47 CFR 0.459 of the Commission's rules.

Needs and Uses: In the Tenth Report and Order, the Commission adopted proposals that carriers serving study areas with fewer than 100,000 access lines that already have certified their rural status need not re-certify for purposes of receiving support beginning January 1, 2000 and need only file thereafter if their status changes. Further, carriers serving more than 100,000 access lines need to file rural certifications for their year 2001 status and thereafter only if their status has changed.

Federal Communications Commission.
Marlene H. Dortch,
Secretary.

[FR Doc. E8-14895 Filed 7-2-08; 8:45 am]

BILLING CODE 6712-01-P